DEPARTMENT OF TRANSPORTATION

Federal Aviation Administration

Availability of Final Environmental Impact Statement for Phoenix Sky Harbor International Airport, Phoenix, Maricopa County, AZ

AGENCY: Federal Aviation Administration.

ACTION: Notice of availability of final environmental impact statement.

SUMMARY: The Federal Aviation Administration (FAA) is issuing this notice to advise the public that a Final Environmental Impact Statement has been prepared for the proposed Airport Development Program at Phoenix Sky Harbor International Airport (PHX), Phoenix, Maricopa County, Arizona. FAA is seeking comments on new information disclosed in section 4.2 of the Final EIS.

FOR FURTHER INFORMATION CONTACT: Jennifer Mendelsohn, Environmental Protection Specialist, AWP-621.6, Airports Division, Federal Aviation Administration, Western-Pacific Region, PO Box 92007, Los Angeles, California 90009-2007, Telephone: (310) 725-3637. Comments on Volume A of the Final EIS should be submitted to the address above and must be received no later than 5 p.m. Pacific Standard Time, Monday, March 13, 2006.

SUPPLEMENTARY INFORMATION: The Federal Aviation Administration (FAA) as lead agency has prepared a Final Environmental Impact Statement for the proposed Airport Development Program at Phoenix Sky Harbor International Airport (PHX). The need to prepare an Environmental Impact Statement (EIS) is based on the procedures described in FAA Order 5050.4A, Airport Environmental Handbook. PHX is located in Phoenix, Maricopa County, Arizona. In June 2005, the FAA published the Draft EIS.

The FAA updated section 4.2, Air Quality to include an analysis of the air pollutant, particulate matter (PM2.5) in order to comply with particular aspects of Federal law and regulation. Volume 1, section 4.2 of the Final EIS discloses this new information. The FAA is seeking comments from government agencies and the public on this new information. FAA will accept comments on the adequacy of information disclosed in Volume 1, section 4.2 and its associated appendices until 5 p.m. Pacific Standard Time, Monday, March 13, 2006.

FAA will not make a decision on the Proposed Action for a minimum of 30 days following publishing the Notice of Availability of the Final EIS (40 CFR § 1506.10) in the Federal Register. FAA will record the appropriate decision or decisions in a Record of Decision.

Copies of the Final EIS are available for public review at the following locations during normal business hours:

U.S. Department of Transportation, Federal Aviation Administration, Western-Pacific Region, Office of the Airports Division, 15000 Aviation Boulevard, Hawthorne, California 90261.

Phoenix Sky Harbor International Airport, 3400 Sky Harbor Boulevard, Terminal 3, Level 3 East Mezzanine, Phoenix, AZ contact person is Ms. Margaret Gonzales (602) 273-3340.

An electronic copy of the FEIS will also be available on the Airport's Web site at: http://phoenix.gov/AVIATION/index.html.

The documents are also available at the following libraries:

Burton Barr Central Library, 1221 N. Central Avenue, Phoenix, AZ 85004;

Ocotillo Branch Library, 102 W. Southern Avenue, Phoenix, AZ 85041;

Harmon Branch Library, 411 W. Yavapai Street, Phoenix, AZ 85003;

Saguaro Branch Library, 2808 N. 46th Street, Phoenix, AZ 85008;

Tempe Public Library, 3500 S. Rural Road, Tempe, AZ 85282;

City of Scottsdale Library, 3839 North Drinkwater Boulevard, Scottsdale, AZ 85251.

The Final EIS will be available for public review for 30 days. Written comments on section 4.2 Air Quality of the Final EIS should be submitted to the address above under the heading FOR FURTHER INFORMATION CONTACT and must be received no later than 5 p.m. Pacific Standard Time, Monday, March 13, 2006.

Issued in Hawthorne, California, on January 31, 2006.
Mark A. McClardy,
Manager, Airports Division, Western-Pacific Region, AWP-600.

[FR Doc. 06-1113 Filed 2-9-06; 8:45 am]

BILLING CODE 4910-13-M